DEPARTMENT OF THE INTERIOR

Bureau of Land Management

[LLAZ931000-15X-L13100000-FI0000-P; AZA36181, AZA36182]

Notice of Proposed Reinstatement of Terminated Oil and Gas Leases AZA36181 and AZA36182, Arizona

AGENCY: Bureau of Land Management, Interior.

ACTION: Notice.

SUMMARY: Per the Mineral Leasing Act of 1920, Vanterra Energy, Inc., timely filed a petition for a Class II reinstatement of competitive oil and gas leases AZA36181 and AZA36182, in Mohave County, Arizona. The lessee paid the required rentals accruing from the date of termination. No leases were issued that affect these lands.

FOR FURTHER INFORMATION CONTACT: Amy Thrower, Supervisory Land Law Examiner, Lands and Minerals Division, Bureau of Land Management, Arizona State Office, One North Central Avenue, Suite 800, Phoenix, Arizona 85004-4427, Phone: 602-417-9334, email: athrower@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The lessees agree to new lease terms for rentals and royalties of $10 per acre, or fraction thereof, per year, and 16⅔ percent, respectively. The lessees paid the $500 administration fee for the reinstatement of the lease and the $163 cost for publishing this notice. The lessee met the requirements for reinstatement of the lease per Sec. 31(d) and (e) of the Mineral Leasing Act of 1920. We are proposing to reinstate the lease, effective from the date of termination and subject to the:

• Original terms and conditions of the lease;

• Increased rental of $10 per acre;

• Increased royalty of 16⅔ percent; and

• $163 cost of publishing this notice.

Rebecca Heick,
Acting Deputy State Director, Lands and Minerals Division.

[FR Doc. 2015-15791 Filed 6-26-15; 8:45 am]

BILLING CODE 4310-32-P